DEPARTMENT OF DEFENSE

Department of the Air Force

HQ USAF Scientific Advisory Board

AGENCY: Department of the Air Force, DoD.

ACTION: Notice of meeting.

SUMMARY: Pursuant to Public Law 92-463, notice is hereby given of the forthcoming meeting of the Air Force Scientific Advisory Board. The purpose of the meeting is to brief the Secretary of the Air Force. This meeting will be closed to the public.

DATES: December 7, 2004.

ADDRESSES: Pentagon, Washington DC.

FOR FURTHER INFORMATION CONTACT: Maj Chris Berg, Air Force Scientific Advisory Board Secretariat, 1180 Air Force Pentagon, Rm 5D982, Washington, DC 20330-1180, (703) 697-4811.

Albert F. Bodnar,
Air Force Federal Register Liaison Officer.

[FR Doc. 04-26707 Filed 12-3-04; 8:45 am]

BILLING CODE 5001-05-P